DEPARTMENT OF ENERGY

Federal Energy Regulatory Commission

Notice of Effectiveness of Exempt Wholesale Generator Status

Enterprise Solar, LLC | EG16-42-000
Escalante Solar I, LLC | EG16-43-000
Escalante Solar II, LLC | EG16-44-000
Escalante Solar III, LLC | EG16-45-000
Granite Mountain Solar East, LLC | EG16-46-000
Granite Mountain Solar West, LLC | EG16-47-000
Iron Springs Solar, LLC | EG16-48-000
Seward Generation, LLC | EG16-49-000
Summer Solar LLC | EG16-50-000
Ringer Hill Wind, LLC | EG16-51-000
South Plains Wind Energy II, LLC | EG16-52-000
Comanche Solar PV, LLC | EG16-53-000
Solar Star California XLI, LLC | EG16-54-000
Grant County Interconnect, LLC | EG16-55-000
Red Horse III, LLC | EG16-56-000
62SK 8ME LLC | EG16-57-000
Middlesex Energy Center, LLC | EG16-58-000
San Roman Wind I, LLC | EG16-59-000
East Ridge Transmission, LLC | EG16-60-000
Black Hills Colorado IPP, LLC | EG16-61-000

Take notice that during the month of April 2016, the status of the above-captioned entities as Exempt Wholesale Generators became effective by operation of the Commission's regulations. 18 CFR 366.7(a).

Dated: May 9, 2016.
Nathaniel J. Davis, Sr.,
Deputy Secretary.

[FR Doc. 2016-11527 Filed 5-13-16; 8:45 am]

BILLING CODE 6717-01-P